DEPARTMENT OF COMMERCE

National Oceanic and Atmospheric Administration

[I.D. 022707A]

Endangered and Threatened Species; Take of Anadromous Fish

AGENCY: National Marine Fisheries Service (NMFS), National Oceanic and Atmospheric Administration (NOAA), Commerce.

ACTION: Issuance of scientific research permits.

SUMMARY: Notice is hereby given that NMFS has issued Permit 1105 Modification 1 to Hagar Environmental Science (HES) in Richmond, CA; and Permit 1121 to Santa Clara Valley Water District (SCVWD) in San Jose, CA. This notice is relevant to federally endangered Central California Coast coho salmon (Oncorhynchus kisutch), threatened Central California Coast steelhead (O. mykiss), and threatened South-Central California Coast steelhead (O. mykiss).

ADDRESSES: The applications, permits, and related documents are available for review by appointment at: Protected Resources Division, NMFS, 777 Sonoma Avenue, Room 315, Santa Rosa, CA 95404 (ph: 707-575-6097, fax: 707-578-3435, e-mail at: Jeffrey.Jahn@noaa.gov).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhynchus kisutch), threatened Central California Coast steelhead (O. mykiss), and threatened South-Central California Coast steelhead (O. mykiss).Permits Issued

A notice of the receipt of an application to renew and modify Permit 1105 was published in the Federal Register on December 4, 2006 (71 FR 70367). Permit 1105 Modification 1 was issued to HES on February 15, 2007. Permit 1105 Modification 1 authorizes capture (by seine or backpack electrofishing), handling, and release of juvenile Central California Coast coho salmon, Central California Coast steelhead, and South-Central California Coast steelhead. Permit 1105 Modification 1 is for research to be conducted in the following watersheds and coastal lagoons: Pilarcitos Creek in San Mateo County, California; San Lorenzo River, Liddell Creek, Laguna Creek, and Majors Creek in Santa Cruz County, California; Salinas River in Monterey and San Luis Obispo counties, California; and Arroyo Grande Creek in San Luis Obispo County, California. Permit 1105 Modification 1 authorizes unintentional lethal take of juvenile ESA-listed salmonids associated with research activities not to exceed 3 percent of ESA-listed salmonids captured. Permit 1105 Modification 1 does not authorize take of adult ESA-listed salmonids or intentional lethal take of ESA-listed salmonids. The purpose of the research is to provide ESA-listed salmonid population, distribution, and habitat assessment data to inform watershed management as well as establish baseline population abundances preceding the implementation of habitat conservation measures. Permit 1105 Modification 1 expires on December 31, 2011.A notice of the receipt of an application for a scientific research permit (1121) was published in the Federal Register on September 21, 2006 (71 FR 55169). Permit 1121 was issued to SCVWD on February 15, 2007.

Permit 1121 authorizes capture (by backpack electrofishing or boat electrofishing), handling, and release of juvenile Central California Coast steelhead; and capture (by weir-trap), handling, and release of adult Central California Coast steelhead. Permit 1121 is for research to be conducted in the Coyote Creek, Guadalupe River, and Stevens Creek watersheds in Santa Clara County, California. Permit 1121 authorizes unintentional lethal take of juvenile ESA-listed salmonids associated with research activities not to exceed 3 percent of ESA-listed salmonids captured. Permit 1121 does not authorize intentional lethal take of ESA-listed salmonids or unintentional lethal take of adult ESA-listed salmonids.

The purpose of the research is to provide fish population and habitat assessment data to direct SCVWD water-use and habitat restoration activities. Permit 1121 expires on December 31, 2011.

Angela Somma,
Chief, Endangered Species Division, Office of Protected Resources, National Marine Fisheries Service.

[FR Doc. E7-3950 Filed 3-6-07; 8:45 am]

BILLING CODE 3510-22-S